DEPARTMENT OF DEFENSE

Department of the Navy

Draft Supplemental Environmental Impact Statement for the Introduction of the P-8A Multi-Mission Maritime Aircraft Into the U.S. Navy Fleet; Rescheduling of Public Meetings and Extension of Public Comment Period

AGENCY: Department of the Navy, DoD.

ACTION: Notice.

SUMMARY: On September 20, 2013, the Department of the Navy (DoN) published a notice in the Federal Register (78 FR 57845) announcing the scheduling of two public meetings on the Draft Supplemental Environmental Impact Statement (SEIS) for the Introduction of the P-8A Multi-Mission Maritime Aircraft into the U.S. Navy Fleet. As a result of the recent government shutdown and the uncertainty of the duration of the shutdown, both meetings were cancelled by the DoN. This notice announces the rescheduling of the two public meetings and extends the public comment period for the Draft SEIS from November 4, 2013 to December 2, 2013.

FOR FURTHER INFORMATION CONTACT: Naval Facilities Engineering Command Atlantic, Attn: Code EV21/CZ (P-8A SEIS Project Manager), 6506 Hampton Boulevard, Norfolk, Virginia 23508-1278.

Dates and Addresses: The rescheduled public meetings will be held between 5:00 p.m. and 8:00 p.m. on the following dates and at the following locations:

1. Thursday, November 7, 2013 at Holiday Inn Hotel & Suites, 620 Wells Road, Orange Park, Florida 32073.

2. Wednesday, November 13, 2013 at North Whidbey Middle School, 67 NE Izett Street, Oak Harbor, Washington 98277.

Federal, state, and local agencies and officials, and interested groups and individuals are encouraged to provide comments in person at the public meetings or in writing anytime during the public comment period. At the public meetings, attendees will be able to submit comments in writing or orally using a stenographer who will listen to and transcribe comments. Comments may also be submitted via the U.S. Postal Service to Naval Facilities Engineering Command Atlantic, Attn: Code EV21/CZ (P-8A SEIS Project Manager), 6506 Hampton Boulevard, Norfolk, Virginia 23508-1278 or electronically via the project Web site (http://www.mmaseis.com).

All statements submitted during the public review period will be given equal weight, whether they are received orally at the public meetings or submitted in writing at the public meetings, via the U.S. Postal Service, or electronically via the public Web site. All comments received will become part of the public record on the Draft SEIS and be responded to in the Final SEIS. All written comments must be postmarked or received online by December 2, 2013 to ensure they become part of the official record.

Copies of the Draft SEIS are available for public review at the following libraries:

1. Oak Harbor City Library, 1000 SE Regatta Drive, Oak Harbor, Washington 98277.

2. Anacortes Public Library, 1220 10th Street, Anacortes, Washington 98221.

3. La Conner Regional Library, 614 Morris Street, La Conner, Washington 98257.

4. Coupeville Library, 788 NW Alexander Street, Coupeville, Washington 98239.

5. Coronado Public Library, 640 Orange Avenue, Coronado, California 92118.

6. Webb-Wesconnett Regional Branch, Jacksonville Public Library, 6887 103rd Street, Jacksonville, Florida 32210.

7. Kaneohe Public Library, 45-829 Kamehameha Highway, Kaneohe, Hawaii 96744.

Copies of the Draft SEIS are also available for electronic viewing or download at http://www.mmaseis.com.

Dated: October 21, 2013.
N.A. Hagerty-Ford,
Commander, Office of the Judge Advocate General, U.S. Navy, Federal Register Liaison Officer.

[FR Doc. 2013-25133 Filed 10-24-13; 8:45 am]

BILLING CODE 3810-FF-P